DEPARTMENT OF DEFENSE

Office of the Secretary

Defense Innovation Board; Notice of Federal Advisory Committee meeting

AGENCY: Deputy Chief Management Officer, Department of Defense.

ACTION: Notice of Federal Advisory Committee meeting.

SUMMARY: The Department of Defense (DoD) is publishing this notice to announce that the following Federal Advisory Committee meeting of the Defense Innovation Board will take place.

DATES: Open to the public, Wednesday, July 12, 2017 from 1:00 p.m. to 3:30 p.m.

ADDRESSES: The open meeting will be held in the Defense Innovation Unit Experimental Auditorium at Moffett Field, 230 R T Jones Road, Mountain View, CA 94043. Additionally, the open meeting will be live streamed for those who are unable to physically attend the meeting.

FOR FURTHER INFORMATION CONTACT: Roma Laster, (703) 695-7563 (Voice), (703) 614-4365 (Facsimile), roma.k.laster.civ@mail.mil (Email). Mailing address is Defense Innovation Board, 9000 Defense Pentagon, Room 5E572, Washington, DC 20350.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the Defense Innovation Board (DIB) is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: Discussion of the Board's revised Interim Recommendation to Establish a Global and Secure Repository for Data Collection, Sharing, and Analysis; updates from the Science & Technology (S&T) and Workforce Behavior & Culture (WBC) subcommittees on their current research; introduction of new topics for potential future recommendations; presentation on the Department's latest implementation efforts of DIB recommendations; and commentary from the public audience.

Meeting Accessibility: Pursuant to Federal statutes and regulations (FACA, the Government in the Sunshine Act, 5 U.S.C. 552b, and 41 CFR 102-3.140 through 102-3.165) and the availability of space, the meeting is open to the public from 1:00 p.m. to 3:30 p.m. Seating is on a first-come basis. Members of the public wishing to attend the meeting or wanting to receive a link to the live stream webcast should contact the Executive Director to register no later than five business days prior to the meeting, by email at osd.innovation@mail.mil.

Special Accommodations: Individuals requiring special accommodations to access the public meeting should contact the Executive Director at least five business days prior to the meeting so that appropriate arrangements can be made.

Written Statements: Pursuant to section 10(a)(3) of the FACA and 41 CFR 102-3.140, the public or interested organizations may submit written comments to the DIB about its approved agenda pertaining to this meeting or at any time regarding the DIB's mission. Individuals submitting a written statement must submit their statement to the Executive Director at osd.innovation@mail.mil. Written comments that do not pertain to a scheduled meeting may be submitted at any time. However, if individual comments pertain to a specific topic being discussed at the planned meeting, then such comments must be received in writing not later than July 7, 2017. The Executive Director will compile all written submissions received by the deadline and provide them to Board Members prior to the meeting. Comments received after this date may not be provided to or considered by the DIB until a later date.

Oral Section: Individuals wishing to make an oral statement to the DIB at the public meeting may be permitted to speak for up to three minutes. Anyone wishing to speak to the DIB should submit a request by email at osd.innovation@mail.mil not later than July 7, 2017 for planning. Requests for oral comments should include a copy or summary of planned remarks for archival purposes. Individuals may also be permitted to submit a comment request at the public meeting; however, depending on the number of individuals requesting to speak, the schedule may limit participation. Webcast attendees will be provided instructions with the live stream link if they wish to submit comments during the open meeting.

Dated: June 23, 2017.
Aaron Siegel,
Alternate OSD Federal Register Liaison Officer, Department of Defense.

[FR Doc. 2017-13549 Filed 6-27-17; 8:45 am]

. BILLING CODE 5001-06-P